DEPARTMENT OF HEALTH AND HUMAN SERVICES

National Institutes of Health

National Human Genome Research Institute; Notice of Meeting

Pursuant to section 10(d) of the Federal Advisory Committee Act, as amended, notice is hereby given of a meeting of the National Advisory Council for Human Genome Research.

The meeting will be held as a virtual meeting and is open to the public as indicated below. Individuals who plan to view the virtual meeting and need special assistance or other reasonable accommodations, should notify the Contact Person listed below in advance of the meeting. The meeting will be videocast and can be accessed from https://www.genome.gov/event-calendar/89th-Meeting-of-National-Advisory-Council-for-Human-Genome-Research.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Council for Human Genome Research.

Date: May 18-19, 2020.

Closed: May 18, 2020, 11:00 a.m. to 12:00 p.m.

Agenda: To review and evaluate grant applications.

Place: National Human Genome Research Institute, National Institutes of Health, 6700-B Rockledge Drive, Suite 1100, Bethesda, MD 20892 (Virtual Meeting).

Open: May 18, 2020, 12:30 p.m. to 4:30 p.m.

Agenda: To discuss matters of program relevance.

Place: National Human Genome Research Institute, National Institutes of Health, 6700-B Rockledge Drive, Suite 1100, Bethesda, MD 20892 (Virtual Meeting).

Closed: May 19, 2020, 12:00 p.m. to 5:00 p.m.

Agenda: To review and evaluate grant applications.

Place: National Human Genome Research Institute, National Institutes of Health, 6700-B Rockledge Drive, Suite 1100, Bethesda, MD 20892 (Virtual Meeting).

Contact Person: Rudy O. Pozzatti, Ph.D., Scientific Review Officer, Scientific Review Branch, National Human Genome Research Institute, National Institutes of Health, 6700-B Rockledge Drive, Suite 1100, Bethesda, MD 20817, (301) 402-0838, pozzattr@mail.nih.gov.

Any interested person may file written comments with the committee by forwarding the statement to the Contact Person listed on this notice. The statement should include the name, address, telephone number and when applicable, the business or professional affiliation of the interested person. The url link to this meeting is: https://www.genome.gov/event-calendar/89th-Meeting-of-National-Advisory-Council-for-Human-Genome-Research. Any member of the public may submit written comments no later than 15 days after the meeting.

(Catalogue of Federal Domestic Assistance Program Nos. 93.172, Human Genome Research, National Institutes of Health, HHS)

Dated: April 30, 2020.
Melanie J. Pantoja,
Program Analyst, Office of Federal Advisory Committee Policy.

[FR Doc. 2020-09618 Filed 5-4-20; 8:45 am]

BILLING CODE 4140-01-P